DEPARTMENT OF ENERGY

Federal Energy Regulatory Commission

[Project No. 5638-007]

Parker & Nelson Holdings, LLC, 3Phase Hydro, LLC; Notice of Transfer of Exemption

1. On September 27, 2024, Parker & Nelson Holding, LLC, exemptee for the 105-kilowatt Ashland Papermill Hydroelectric Project No. 5638, filed a letter notifying the Federal Energy Regulatory Commission (Commission) that the project was transferred from Parker & Nelson Holdings, LLC to 3Phase Hydro, LLC, pursuant to 18 CFR 4.106(i). The Ashland Papermill Hydroelectric Project No. 5638 was originally issued an exemption on April 9, 1982.¹ The project is located on the Squam River in Grafton County, New Hampshire. The transfer of an exemption does not require Commission approval.

¹ Mill Pond Associates, Inc., 19 FERC ¶ 62,045 (1982) (Order Granting Exemption from Licensing of a Small Hydroelectric Project of 5 Megawatts or Less). Subsequently, on February 27, 2013, the project was transferred to Northwoods Renewables, LLC, and on August 15, 2022, it was transferred to Parker & Nelson Holdings, LLC.

2. 3Phase Hydro, LLC is now the exemptee of the Ashland Papermill Hydroelectric Project No. 5638. All correspondence regarding the project should be directed to Austin Brown, 3Phase Hydro, LLC, 39 Mill Pond Lane, Ashland, NH 03217, Email: austin.brown124@gmail.com.

Dated: February 4, 2025.
Debbie-Anne A. Reese,
Secretary.

[FR Doc. 2025-02426 Filed 2-10-25; 8:45 am]

BILLING CODE 6717-01-P